DEPARTMENT OF AGRICULTURE

Forest Service

[EIS No. 2011-13640]

Retraction of Salt River Allotments Vegetative Management EIS

AGENCY: Forest Service, USDA.

ACTION: Retraction of NOI.

SUMMARY: The Forest Service has published a Notice of Intent (NOI) on May 25, 2011 for Salt River Allotments Vegetative Management EIS. This Environmental Impact Statement was first designed due to complexities encountered with a variety of current activities and environmental conditions that interconnect along Salt River. These activities include: White water rafting, wilderness values, critical habitat of aquatic and terrestrial species. Planned livestock grazing project included a desire by term-grazing permittees to graze livestock (i.e., cattle) along river.

DATES: Not Applicable.

ADDRESSES: No further comments will be received on this project.

FOR FURTHER INFORMATION CONTACT: A. Jamie Wages 7680 South Sixshooter Canyon Road Globe, Arizona 85501, ajwages@fs.fed.us or 928-402-6222. Individuals who use telecommunication devices for the deaf (TDD) may call the Federal Information Relay Service at (800) 877-8339 between 8:00 a.m. and 8:00 p.m., Eastern Standard Time, Monday through Friday.

SUPPLEMENTARY INFORMATION: Selecting to do an EIS upfront was a shortcut for doing an EA and then not being able to certify proposed action did not have a significant impact in a FONSI. However, through discussions with term-grazing permittees, it was determined that if livestock were allowed to graze along river that neither Forest Service nor term-grazing permittees had time or money to conduct monitoring necessary to determine appropriateness of this proposed action along river corridor. By withdrawing complexity inherent in proposed action to graze along river, need for an EIS evaporated. Therefore, project planning will continue through an EA process. Environmental Impact Statement will be retracted on February 18, 2015.

Dated: February 17, 2015.
Richard Reitz,
Globe Ranger District, Tonto National Forest.
Dated: February 18, 2015.
Kelly Jardine,
Tonto Basin Ranger District, Tonto National Forest.

[FR Doc. 2015-04073 Filed 2-26-15; 8:45 am]

BILLING CODE 3410-11-P